DEPARTMENT OF THE INTERIOR

National Park Service

Notice of Inventory Completion for Native American Human Remains and Associated Funerary Objects in the Possession of the Phoebe A. Hearst Museum of Anthropology, University of California, Berkeley, Berkeley, CA

AGENCY: National Park Service, Interior.

ACTION: Notice.

Notice is hereby given in accordance with provisions of the Native American Graves Protection and Repatriation Act (NAGPRA), 43 CFR 10.9, of the completion of an inventory of human remains and associated funerary objects in the possession of the Phoebe A. Hearst Museum of Anthropology, University of California, Berkeley, Berkeley, CA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

An assessment of the human remains, and catalogue records and associated documents relevant to the human remains, was made by Phoebe Hearst Museum of Anthropology professional staff in consultation with representatives of the Arctic Slope Regional Corporation.

In 1963, human remains representing at least one individual were removed from Structure E, Mound A, at the Birnirk site, Point Barrow, AK, by K. Bohnsack. These human remains were donated to the Phoebe A. Hearst Museum in 1964 by S. Holland. No known individual was identified. No associated funerary objects are present.

These individuals have been identified as Native American based on geographic information and documentation at the Phoebe A. Hearst Museum. Consultation with tribal representatives, geographic location, and documentation at the Phoebe A. Hearst Museum suggest that a relationship exists between contemporary inhabitants of the Arctic Slope Regional Corporation and these human remains from Point Barrow, AK, and Birnirk, AK.

Based on the above-mentioned information, officials of the Phoebe Hearst Museum of Anthropology have determined that, pursuant to 43 CFR 10.2 (d)(1), the human remains listed above represent the physical remains of one individual of Native American ancestry. Officials of the Phoebe A. Hearst Museum of Anthropology also have determined that, pursuant to 43 CFR 10.2 (e), there is a relationship of shared group identity that can be reasonably traced between these Native American human remains and the Arctic Slope Regional Corporation.

This notice has been sent to officials of the Arctic Slope Regional Corporation. Representatives of any other Indian tribe that believes itself to be culturally affiliated with these human remains should contact C. Richard Hitchcock, NAGPRA Coordinator, Phoebe A. Hearst Museum of Anthropology, University of California, Berkeley, Berkeley CA 94720, telephone (510) 642-6096, before August 12, 2002. Repatriation of the human remains to the Arctic Slope Regional Corporation may begin after that date if no additional claimants come forward.

Dated:May 24, 2002.
Robert Stearns,
Manager, National NAGPRA Program.

[FR Doc. 02-17417 Filed 7-10-02; 8:45 am]

BILLING CODE 4310-70-S